DEPARTMENT OF HOMELAND SECURITY

U.S. Customs and Border Protection

Accreditation of Intertek USA, Inc., Yabucoa, PR, as a Commercial Laboratory

AGENCY: U.S. Customs and Border Protection, Department of Homeland Security.

ACTION: Notice of accreditation of Intertek USA, Inc., Yabucoa, PR, as a commercial laboratory.

SUMMARY: Notice is hereby given, pursuant to CBP regulations, that Intertek USA, Inc., Yabucoa, PR, has been accredited to test petroleum and petroleum products for customs purposes for the next three years as of July 7, 2016.

DATES: As of July 7, 2016, Intertek USA, Inc., Yabucoa, PR, was reaccredited as a Customs-accredited laboratory. The next triennial inspection date will be scheduled for July 2019.

FOR FURTHER INFORMATION CONTACT: Mr. Stephen Cassata, Laboratories and Scientific Services, U.S. Customs and Border Protection, 1300 Pennsylvania Avenue NW., Suite 1500N, Washington, DC 20229, tel. 202-344-1060.

SUPPLEMENTARY INFORMATION: Notice is hereby given pursuant to 19 CFR 151.12, that Intertek USA, Inc., Road #901, Km. 2.7, Bo. Camino Nuevo, Yabucoa, PR 00767-0186, has been accredited to test petroleum and petroleum products in accordance with the provisions of 19 CFR 151.12. Intertek USA, Inc., is accredited for the following laboratory analysis procedures and methods for petroleum and certain petroleum products set forth by the U.S. Customs and Border Protection Laboratory Methods (CBPL) and American Society for Testing and Materials (ASTM):

CBPL No. | Method | Title
27-01 | ASTM D287 | Standard Test Method for API Gravity of Crude Petroleum and Petroleum Products (Hydrometer Method).
27-02 | ASTM D1298 | Standard Test Method for Density, Relative Density (Specific Gravity), or API Gravity of Crude Petroleum and Liquid Petroleum Products by Hydrometer Method.
27-08 | ASTM D86 | Standard Test Method for Distillation of Petroleum Products at Atmospheric Pressure.
27-11 | ASTM D445 | Standard Test Method for Kinematic Viscosity of Transparent and Opaque Liquids.
27-13 | ASTM D4294 | Standard test method for sulfur in petroleum and petroleum products by energy-dispersive x-ray fluorescence spectrometry.
27-48 | ASTM D4052 | Standard Test Method for Density and Relative Density of Liquids by Digital Density Meter.

Anyone wishing to employ this entity to conduct laboratory analyses should request and receive written assurances from the entity that it is accredited by the U.S. Customs and Border Protection to conduct the specific test requested. Alternatively, inquiries regarding the specific test this entity is accredited to perform may be directed to the U.S. Customs and Border Protection by calling (202) 344-1060. The inquiry may also be sent to cbp.labhq@dhs.gov. Please reference the Web site listed below for a complete listing of CBP approved gaugers and accredited laboratories: http://www.cbp.gov/about/labs-scientific/commercial-gaugers-and-laboratories.

Dated: August 31, 2017.
Ira S. Reese,
Executive Director, Laboratories and Scientific Services.

[FR Doc. 2017-19267 Filed 9-11-17; 8:45 am]

BILLING CODE 9111-14-P